DEPARTMENT OF THE INTERIOR

Bureau of Land Management

[MTM 75213]

Public Land Order No. 7854; Revocation of Secretarial Order Dated October 13, 1908; Montana

AGENCY: Bureau of Land Management, Interior.

ACTION: Public Land Order.

SUMMARY: This order revokes the withdrawal created by a Secretarial Order insofar as it affects the remaining 100 acres of land in the Gallatin National Forest reserved for use by the United States Forest Service for the Mill Ranger Station. The Forest Service determined the land is no longer needed for administrative site purposes and the revocation is needed to accommodate a pending land exchange.

DATES: This Public Land Order is effective on July 13, 2016.

FOR FURTHER INFORMATION CONTACT: Tami Lorenz, Bureau of Land Management, Montana/Dakotas State Office, 5001 Southgate Drive, Billings, Montana 59101-4669, 406-896-5053. Persons who use a telecommunications device for the deaf (TDD) may call the Federal Information Relay Service (FIRS) at 1-800-877-8339 to contact the above individual. The FIRS is available 24 hours a day, 7 days a week, to leave a message or question. You will receive a reply during normal business hours.

SUPPLEMENTARY INFORMATION: The 1908 Secretarial Order originally withdrew 160 acres within the Gallatin National Forest for use as administrative sites. In 1916, the Secretarial Order was partially revoked, leaving the remaining 100 acres that are the subject of this revocation. The site was never developed and the United States Forest Service has identified it for disposal. The land is temporarily segregated from the United States mining laws by a pending land exchange proposal.

Order

By virtue of the authority vested in the Secretary of the Interior by Section 204 of the Federal Land Policy and Management Act of 1976, 43 U.S.C. 1714, it is ordered as follows:

1. The withdrawal created by the Secretarial Order dated October 13, 1908, which withdrew public land for use by the Forest Service as administrative sites, is hereby revoked in its entirety as to the following described land:

Gallatin National Forest

Principal Meridian, Montana

T. 8 S., R. 7 E.,

Sec. 32, E½SW¼ and W½NW¼SE¼.

The area described contains 100 acres in Park County.

2. At 9 a.m. on July 13, 2016, the land described in Paragraph 1 is opened to such forms of disposition as may be made of National Forest System land, subject to valid existing rights, the provisions of existing withdrawals, other segregations of record, and the requirements of applicable law.

Dated: June 24, 2016.
Janice M. Schneider,
Assistant Secretary—Land and Minerals Management.

[FR Doc. 2016-16562 Filed 7-12-16; 8:45 am]

BILLING CODE 3410-11-P